DEPARTMENT OF LABOR

[Docket No. OSHA-2013-0020]

Process Safety Management (PSM); Stakeholder Meeting

AGENCY: Occupational Safety and Health Administration (OSHA), Department of Labor.

ACTION: Notice of stakeholder meeting; updated date after postponement.

SUMMARY: On August 30, 2022, OSHA announced an informal stakeholder meeting regarding the rulemaking project for the Process Safety Management (PSM) standard, to be held on September 28, 2022. With this notice, OSHA is postponing the informal stakeholder meeting until October 12, 2022. OSHA is also reissuing the invitation to interested parties to participate in the informal stakeholder meeting. Additionally, OSHA invites participants to provide public comments related to potential changes to the standard that OSHA is considering and is extending the deadline for submitting comments.

DATES: The stakeholder meeting will be held virtually from 10 a.m. to 4 p.m. ET, on Wednesday, October 12, 2022. Registration to participate in or observe the stakeholder meeting will be open until all spots are full. Written comments must be submitted by November 14, 2022.

ADDRESSES: The stakeholder meeting will be held virtually on Webex. If you wish to attend the meeting or provide public comment, please register online as soon as possible at https://www.osha.gov/process-safety-management/background/2022stakeholdermtg. If you are interested in providing public comments at the meeting, you must indicate that while registering. In order to accommodate many speakers, public commenters will be allowed approximately three minutes to speak. Although OSHA welcomes all comments and seeks to accommodate as many speakers as possible, it may not be possible to accommodate all stakeholder requests to speak at the meeting. Stakeholders who register to speak in advance of the meeting will receive confirmation and a schedule of speakers via email prior to the event. Those who cannot attend the meeting and those who are unable or choose not to make verbal comments during the meeting are invited to submit their comments in writing (see instructions in Section III below).

FOR FURTHER INFORMATION CONTACT: Press inquiries: Mr. Frank Meilinger, Director, OSHA Office of Communications, Room N-3647, U.S. Department of Labor, 200 Constitution Avenue NW, Washington, DC 20210; telephone: (202) 693-1999; email: meilinger.francis2@dol.gov.

General and technical information: Ms. Lisa Long, Director, Office of Engineering Safety, OSHA Directorate of Standards and Guidance, Room N-3621, U.S. Department of Labor, 200 Constitution Avenue NW, Washington, DC 20210; telephone: (202) 693-2294, email: long.lisa@dol.gov.

SUPPLEMENTARY INFORMATION:

I. Background

OSHA published the PSM standard, 29 CFR 1910.119,¹ in 1992 in response to several catastrophic chemical-release incidents that occurred worldwide. The PSM standard requires employers to implement safety programs that identify, evaluate, and control highly hazardous chemicals. Unlike some of OSHA's standards, which prescribe precisely what employers must do to comply, the PSM standard is “performance-based,” and outlines 14 management system elements for controlling highly hazardous chemicals. Under the standard, employers have the flexibility to tailor their PSM programs to the unique conditions at their facilities. For more information on the PSM standard, please visit https://osha.gov/process-safety-management/background.

¹ Section 1910.119 is made applicable to construction work through 29 CFR 1926.64.

Since its publication in 1992, the PSM standard has not been updated. The 2013 ammonium nitrate explosion at a fertilizer storage facility in West, Texas renewed interest in PSM. In response to this incident, on August 1, 2013, Executive Order (E.O.) 13650, Improving Chemical Facility Safety and Security, was signed. The E.O. directed OSHA and several other federal agencies to, among other things, modernize policies, regulations, and standards to enhance safety and security in chemical facilities by completing certain tasks, including: coordinating with stakeholders to develop a plan for implementing improvements to chemical risk managements practices, developing proposals to improve the safe and secure storage handling and sale of ammonium nitrate, and reviewing the PSM and Risk Management Plan (RMP) rules to determine if their covered hazardous chemical lists should be expanded. For more specifics on the Executive Order and OSHA's collaboration with other government agencies and stakeholders, please visit https://www.osha.gov/chemical-executive-order.

Additionally, the E.O. directed that within 90 days, OSHA should publish a Request for Information (RFI) to identify issues related to modernization of its PSM standard and related standards necessary to meet the goal of preventing major chemical accidents. OSHA published the RFI in December 2013, and subsequently initiated and completed a Small Business Advocacy Review Panel (SBAR) in June 2016. Following the SBAR panel, PSM was moved to the Long-Term Actions list on the Unified Agenda. OSHA has continued to work on the PSM standard rulemaking and PSM was placed back on the Unified Agenda in the spring of 2021. OSHA is holding this stakeholder meeting to reengage stakeholders and solicit comments on the modernization topics mentioned in the RFI and SBAR panel report, as well as any additional PSM-related issues stakeholders would like to raise. The list of modernization topics is listed below in Section II.

The Environmental Protection Agency (EPA) has a separate, pending proposal addressing RMP requirements. In the Clean Air Act Amendments of 1990, Congress required OSHA to adopt the PSM standard to protect workers and required EPA to protect the community and environment by issuing the RMP rule. The PSM and RMP rules were written to complement each other in accomplishing these Congressional goals. Since the E.O. 13650, EPA has published amendments to the RMP rule in 2017 and 2019. Any comments on the EPA's RMP proposal should be submitted in writing to the docket for that rulemaking and will not be discussed during OSHA's stakeholder meeting. More information regarding the RMP rule is available at https://www.epa.gov/rmp. OSHA and EPA will continue to coordinate as both agencies consider revisions to their respective rules.

II. Stakeholder Meeting

The meeting will feature a brief presentation from OSHA on the background of the PSM standard and some of the issues outlined in this notice. After the presentation, there will be time for registered commenters to provide verbal comments. PSM rulemaking topics are outlined in the lists below, but commenters may provide feedback on additional PSM-related issues. More information on most of the topics in the lists below can be found in the Small Entity Representative (SER) Background Document (docket no. OSHA-2013-0020-0107) and SER Issues Document (docket no. OSHA-2013-0020-0108) located on the PSM SBAR web page, https://www.osha.gov/process-safety-management/sbrefa. The purpose of the meeting is to gather information from stakeholders, and OSHA will not be responding to the comments during the meeting. The public may also submit written comments to the rulemaking docket (see Section III for instructions). More information on registration is provided above. The meeting will be recorded.

The potential changes to the scope of the current PSM standard that OSHA is considering include:

1. Clarifying the exemption for atmospheric storage tanks;

2. Expanding the scope to include oil- and gas-well drilling and servicing;

3. Resuming enforcement for oil and gas production facilities;

4. Expanding PSM coverage and requirements for reactive chemical hazards;

5. Updating and expanding the list of highly hazardous chemicals in Appendix A;

6. Amending paragraph (k) of the Explosives and Blasting Agents Standard (§ 1910.109) to extend PSM requirements to cover dismantling and disposal of explosives and pyrotechnics;

7. Clarifying the scope of the retail facilities exemption; and

8. Defining the limits of a PSM-covered process.

The potential changes to particular provisions of the current PSM standard that OSHA is considering include:

1. Amending paragraph (b) to include a definition of RAGAGEP;

2. Amending paragraph (b) to include a definition of critical equipment;

3. Expanding paragraph (c) to strengthen employee participation and include stop work authority;

4. Amending paragraph (d) to require evaluation of updates to applicable recognized and generally accepted as good engineering practices (RAGAGEP);

5. Amending paragraph (d) to require continuous updating of collected information;

6. Amending paragraph (e) to require formal resolution of Process Hazard Analysis team recommendations that are not utilized;

7. Expanding paragraph (e) by requiring safer technology and alternatives analysis;

8. Clarifying paragraph (e) to require consideration of natural disasters and extreme temperatures in their PSM programs, in response to E.O. 13990;

9. Expanding paragraph (j) to cover the mechanical integrity of any critical equipment;

10. Clarifying paragraph (j) to better explain “equipment deficiencies;”

11. Clarifying that paragraph (l) covers organizational changes;

12. Amending paragraph (m) to require root cause analysis;

13. Revising paragraph (n) to require coordination of emergency planning with local emergency-response authorities;

14. Amending paragraph (o) to require third-party compliance audits;

15. Including requirements for employers to develop a system for periodic review of and necessary revisions to their PSM management systems (previously referred to as “Evaluation and Corrective Action”); and

16. Requiring the development of written procedures for all elements specified in the standard, and to identify records required by the standard along with a records retention policy (previously referred to as “Written PSM Management Systems”).

III. Submitting and Accessing Comments

Regardless of attendance at the stakeholder meeting, interested persons may submit written comments electronically at https://www.regulations.gov, which is the Federal eRulemaking Portal. All comments, attachments, and other material must identify the agency's name and the docket number for this stakeholder meeting (OSHA-2013-0020). You may supplement electronic submissions by uploading document files electronically. All comments and additional materials must be submitted by November 14, 2022. All comments, including any personal information, are placed in the public docket without change and may be made available online at https://www.regulations.gov. Therefore, OSHA cautions commenters about submitting personal information such as Social Security Numbers and dates of birth.

To read or download comments or other material in the docket, go to https://www.regulations.gov, and search for docket no. OSHA-2013-0020. All documents in the docket are listed in the https://www.regulations.gov index; however, some information (e.g., copyrighted material) is not publicly available to read or download from this website. All submissions, including copyrighted material, are available for inspection and copying at the OSHA Docket Office. Contact the OSHA Docket Office at (202) 693-2350 (TTY (877) 889-5627) for assistance in locating docket submissions.

Information on using the https://www.regulations.gov website to submit comments and access the docket is available at https://www.regulations.gov/faq.

Authority and Signature

James S. Frederick, Deputy Assistant Secretary of Labor for Occupational Safety and Health, U.S. Department of Labor, 200 Constitution Avenue NW, Washington, DC 20210, authorized the preparation of document under the authority of sections 4, 6, and 8 of the Occupational Safety and Health Act of 1970 (29 U.S.C. 653, 655, 657); Secretary of Labor's Order No. 08-2020 (85 FR 58393); and 29 CFR part 1911.

Signed at Washington, DC, September 8, 2022.
James S. Frederick,
Deputy Assistant Secretary of Labor for Occupational Safety and Health.

[FR Doc. 2022-20261 Filed 9-19-22; 8:45 am]

BILLING CODE 4510-26-P